FEDERAL COMMUNICATIONS COMMISSION

47 CFR Part 15

[ET Docket No. 03-122; DA 06-927]

Unlicensed Devices in the 5 GHz Band

AGENCY: Federal Communications Commission.

ACTION: Proposed rule.

SUMMARY: This document seeks to refresh the record on issues raised in petitions for reconsideration of the Report and Order in this proceeding. The petitions sought reconsideration and clarification, in part, of the equipment authorization requirements for Unlicensed National Information Infrastructure (U-NII) devices employing dynamic frequency selection (DFS). We seek additional comment on the DFS issues raised in the petitions for reconsideration and, in particular, how these issues are addressed by the Project Team's revised compliance and measurement procedures and the Commission's rules.

DATES: Comments must be filed on or before May 15, 2006, and reply comments must be filed on or before May 18, 2006.

FOR FURTHER INFORMATION CONTACT: Shameeka Hunt, Office of Engineering and Technology, (202) 418-2062, e-mail: Shameek.Hunt@fcc.gov, TTY (202) 418-2989.

ADDRESSES: You may submit comments, identified by ET Docket No. 03-122, DA No. 06-927, by any of the following methods:

• Federal eRulemaking Portal: http://www.regulations.gov. Follow the instructions for submitting comments.

• Federal Communications Commission's Web site: http://www.fcc.gov/cgb/ecfs/. Follow the instructions for submitting comments.

• E-mail: [Optional: Include the E-mail address only if you plan to accept comments from the general public]. Include the docket number(s) in the subject line of the message.

• Mail: [Optional: Include the mailing address for paper, disk or CD-ROM submissions needed/requested by your Bureau or Office. Do not include the Office of the Secretary's mailing address here.]

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

SUPPLEMENTARY INFORMATION: This is a summary of the Commission's Public Notice, ET Docket No. 03-122, DA No. 06-927, released April 26, 2006. The full text of this document is available for inspection and copying during normal business hours in the FCC Reference Center (Room CY-A257), 445 12th Street, SW., Washington, DC 20554. The complete text of this document also may be purchased from the Commission's copy contractor, Best Copy and Printing, Inc., 445 12th Street, SW., Room, CY-B402, Washington, DC 20554. The full text may also be downloaded at: http://www.fcc.gov.

Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Summary of Public Notice

1. The Office of Engineering and Technology (OET) seeks to refresh the record on issues raised in petitions for reconsideration of the Report and Order, 69 FR 2677, January 20, 2004, in this proceeding. The petitions sought reconsideration and clarification, in part, of the equipment authorization requirements for Unlicensed National Information Infrastructure (U-NII) devices employing dynamic frequency selection (DFS). The International Telecommunication Advisory Committee-Radiocommunication (ITAC-R) Government/Industry Project Team (Project Team) recently reached consensus on revised compliance and measurement procedures for DFS, and the National Telecommunications and Information Administration (NTIA) has presented these recommendations to the Commission. NTIA notes that the revised procedures represent the Federal Government's requirements for compliance measurement procedures for U-NII devices employing DFS and include modified definitions, new response requirements, and reporting requirements compared to previous versions of the procedures.

2. On November 12, 2003, the Commission adopted a Report and Order, in this proceeding, which amended part 15 of the rules to make an additional 255 megahertz of spectrum available in the 5.470-5.725 GHz band for U-NII devices, including Radio Local Area Networks (RLANs). In addition to making more spectrum available for use by U-NII devices, the Commission took steps to minimize the potential for these devices to cause interference to existing radiofrequency operations. Specifically, the Commission adopted requirements for U-NII devices in the 5.250-5.350 GHz and 5.470-5.725 GHz bands to employ Dynamic Frequency Selection (DFS) and Transmit Power Control (TPC). The Commission codified requirements for these U-NII devices in part 15, Subpart E of its rules (47 CFR 15.401 et seq.).

3. In the Report and Order, the Commission also provided an interim measurement procedure to be used by the Commission and others in determining whether U-NII devices comply with the rules. The Commission stated that the provisions of this test procedure would need to be modified as equipment was developed and as testing methodologies were refined. The Commission also stated that the OET Laboratory may issue updated measurement procedures in the future. The Project Team has worked since the release of the Report and Order to develop new measurement procedures for performing DFS compliance measurement tests for U-NII equipment operating in the 5250-5350 MHz and 5470-5725 MHz bands.

4. Globespan Virata (Globespan), Wi-Fi Alliance, and Extreme Networks filed petitions seeking clarification or reconsideration of various aspects of the rules adopted in the Report and Order. Globespan requests that the Commission revise the rules to state that U-NII devices are not required to detect and avoid frequency hopping radar signals. Globespan further requests that if it was the intent of the Commission to include frequency hopping radars in the DFS requirements, the Commission should specify a measurement procedure for this requirement. Wi-Fi Alliance seeks clarification, in part, of the channel availability check time requirement in section 15.407(h)(2)(ii). Finally, Extreme Networks seeks clarification of the definition of a U-NII central controller that must include DFS capability.

5. OET notes that these petitions for reconsideration raise issues regarding DFS compliance and measurement procedures that are addressed in the Project Team's revised procedures. Therefore, in order to refresh the record, we seek additional comment on the DFS issues raised in the petitions filed by Globespan, Wi-Fi Alliance, and Extreme Networks and, in particular, how these issues are addressed by the Project Team's revised compliance and measurement procedures and the Commission's rules.

Federal Communications Commission.
Julius P. Knapp,
Deputy Chief, Office of Engineering and Technology.

[FR Doc. E6-6742 Filed 5-2-06; 8:45 am]

BILLING CODE 6712-01-P